FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than February 1, 2017.

A. Federal Reserve Bank of Kansas City (Dennis Denney, Assistant Vice President) 1 Memorial Drive, Kansas City, Missouri 64198-0001:

1. Dennis Schardt, Kearney, Nebraska; Brian Schardt, Grand Island, Nebraska; and Christina Nokelby, Marquette, Nebraska; to acquire voting shares of Bank Management, Inc., and thereby acquire shares of First Bank of Nebraska, both of Wahoo, Nebraska. In addition, Christina Nokelby Trust No. 2, Kimberly Schardt Porter Trust No. 2, Rebecca Rathjen Trust No. 2, Brian Schardt Trust No. 2, Brian Schardt, Kimberly Schardt Porter, Rebecca Rathjen, Grand Island, Nebraska, and Chrstina Nokelby, Marquette, Nebraska, individually, and as trustees of the trusts listed, and Dennis Schardt, Kearney, Nebraska, for approval as members of the Schardt Family Group acting in concert, and thereby acquire shares of Bank Management, Inc.

Board of Governors of the Federal Reserve System, January 12, 2017.
Yao-Chin Chao,
Assistant Secretary of the Board.

[FR Doc. 2017-01046 Filed 1-17-17; 8:45 am]

BILLING CODE 6210-01-P